DEPARTMENT OF TRANSPORTATION

Surface Transportation Board

[STB Ex Parte No. 558 (Sub-No. 10)]

Railroad Cost of Capital—2006

AGENCY: Surface Transportation Board.

ACTION: Notice of decision.

SUMMARY: The Board is instituting a proceeding to determine the railroad industry's cost of capital for 2006. The decision solicits comments on: (1) The railroads' 2006 current cost of debt capital; (2) the railroads' 2006 current cost of preferred stock equity capital (if any); (3) the railroads' 2006 cost of common stock equity capital; and (4) the 2006 capital structure mix of the railroad industry on a market value basis.

DATES: Notices of intent to participate are due no later than May 29, 2007. Statements of the railroads are due by June 25, 2007. Statements of other interested persons are due by July 25, 2007. Rebuttal statements by the railroads are due by August 9, 2007.

ADDRESSES: Railroads and others that intend to participate in this proceeding shall file an original and one copy of a notice of intent to participate with the Secretary by the date specified below. Evidentiary statements are to be filed with the Board on or before the dates set forth above. Comments may be submitted either via the Board's e-filing format or in the traditional paper format. Any person using e-filing should comply with the instructions at the E-FILING link on the Board's Web site, at http://www.stb.dot.gov. Any person submitting a filing in the traditional paper format should send an original and 10 copies to: Surface Transportation Board, Attn: STB Ex Parte No. 558 (Sub-No. 10), 395 E Street, SW., Washington, DC 20423-0001. In addition, the evidence contained in the statement shall be submitted on a 3.5-inch disk in MS Word 2003 or its equivalent.

FOR FURTHER INFORMATION CONTACT: Scott Decker, (202) 245-0330. (Federal Information Relay Service (FIRS) for the hearing impaired: 1 (800) 877-8339.)

SUPPLEMENTARY INFORMATION: The Board's decision is posted on the Board's website, www.stb.dot.gov. In addition, copies of the decision may be purchased from ASAP Document Solutions by calling 202-306-4004 (assistance for the hearing impaired is available through FIRS at 1-800-877-8339), or by e-mail at asapdc@verizon.net.

We preliminarily conclude that the proposed action will not significantly affect either the quality of the human environment or the conservation of energy resources.

Authority: 49 U.S.C. 10704(a).

Decided: May 14, 2007.
By the Board, Chairman Nottingham, Vice Chairman Buttrey, and Commissioner Mulvey.
Vernon A. Williams,
Secretary.

[FR Doc. E7-9690 Filed 5-18-07; 8:45 am]

BILLING CODE 4915-00-P